DEPARTMENT OF COMMERCE

National Institute of Standards and Technology

Proposed Information Collection; Comment Request; Safety and Health Data

AGENCY: National Institute of Standards and Technology, Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 25, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument and instructions should be directed to Stephen Banovic, Office of Safety, Health, and Environment, National Institute of Standards and Technology, 100 Bureau Drive, MS 1730, Gaithersburg, MD 20899, (301) 975-8822 or stephen.banovic@nist.gov.

SUPPLEMENTARY INFORMATION:

I. Abstract

This request is to seek generic clearance for the collection of routine information requested of individuals (including but not limited to visitors, contractors, associates) who utilize Department of Commerce health units as well as various other health and safety related records.

The information is collected for the following purposes:

1. For medical treatment, testing, or recording of medical or safety equipment or incidents.

2. For recording of potential radiation exposure to track and assure “As Low as Reasonably Achievable” minimization of risks associated with occupational exposure to radiation and to demonstrate regulatory compliance and reporting requirements to the Nuclear Regulatory Commission.

3. With individual's written permission, release of records for research purposes to medical personnel.

4. To refer information required by applicable law to be disclosed to a Federal, State, or local public health service agency, concerning individuals who have contracted certain communicable diseases or conditions. Such information is used to prevent further outbreak of the disease or condition.

5. To disclose information to the appropriate Federal, State, or local agencies responsible for investigation of an accident, disease, medical condition, or injury as required by pertinent legal authority.

6. To disclose information, when an individual to whom a record pertains is mentally incompetent or under other legal disability, to any person who is responsible for the care of the individual, to the extent necessary.

7. To evaluate and report on the effectiveness of health, safety and wellness programs by agency staff or third parties under contract with the agency to conduct such evaluations.

8. To disclose to the Office of Workers' Compensation Programs about a claim for benefits filed.

II. Method of Collection

Information will be collected in paper format, electronically via internal web applications, and through interviews.

III. Data

OMB Control Number: 0693-XXXX.

Form Number(s): None.

Type of Review: Regular submission, new information collection.

Affected Public: Some associates, volunteers, and visitors to NIST.

Estimated Number of Respondents: 450.

Estimated Time per Response: 5 minutes.

Estimated Total Annual Burden Hours: 37.5 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-15508 Filed 7-24-17; 8:45 am]

BILLING CODE 3510-13-P